DEPARTMENT OF ENERGY

Federal Energy Regulatory Commission

Combined Notice of Filings #1

Take notice that the Commission received the following electric corporate filings:

Docket Numbers: EC13-134-000.

Applicants: Astoria Energy LLC.

Description: Application under FPA Section 203 of Astoria Energy LLC including Confidential Ex. I.

Filed Date: 8/5/13.

Accession Number: 20130805-5260.

Comments Due: 5 p.m. ET 8/26/13.

Take notice that the Commission received the following electric rate filings:

Docket Numbers: ER10-2984-013.

Applicants: Merrill Lynch Commodities, Inc.

Description: Notice of Non-Material Change in Status of Merrill Lynch Commodities, Inc.

Filed Date: 8/5/13.

Accession Number: 20130805-5277.

Comments Due: 5 p.m. ET 8/26/13.

Docket Numbers: ER13-1857-000.

Applicants: Idaho Power Company.

Description: Supplement to Triennial Filing to be effective N/A.

Filed Date: 8/2/13.

Accession Number: 20130802-5258.

Comments Due: 5 p.m. ET 8/23/13.

Docket Numbers: ER13-2101-000.

Applicants: Virginia Electric and Power Company.

Description: New Baseline—VEPCO WCBR Tariff Cancel Old DB to be effective 8/5/2013.

Filed Date: 8/2/13.

Accession Number: 20130802-5240.

Comments Due: 5 p.m. ET 8/23/13.

Docket Numbers: ER13-2102-000.

Applicants: ReEnergy Black River LLC.

Description: ReEnergy Black River Notice of Succession and MBR Tariff Revisions to be effective 8/3/2013.

Filed Date: 8/2/13.

Accession Number: 20130802-5245.

Comments Due: 5 p.m. ET 8/23/13.

Docket Numbers: ER13-2103-000.

Applicants: ORNI 47 LLC.

Description: Petition of ORNI 47 LLC For Approval of Initial Market-Based Rate Tariff to be effective 10/1/2013.

Filed Date: 8/2/13.

Accession Number: 20130802-5249.

Comments Due: 5 p.m. ET 8/23/13.

Docket Numbers: ER13-2104-000.

Applicants: Virginia Electric and Power Company.

Description: New Baseline—VEPCO Amended and Restated MBS Tariff to be effective 8/5/2013.

Filed Date: 8/2/13.

Accession Number: 20130802-5274.

Comments Due: 5 p.m. ET 8/23/13.

Docket Numbers: ER13-2105-000.

Applicants: Exelon Generation Company, LLC.

Description: ExGen Rate Schedule No. 21 (NOSA) Filing to be effective 3/1/2014.

Filed Date: 8/2/13.

Accession Number: 20130802-5284.

Comments Due: 5 p.m. ET 8/23/13.

Docket Numbers: ER13-2106-000.

Applicants: NedPower Mount Storm, LLC.

Description: New Baseline—NedPower MBR Tariff to be effective 8/5/2013.

Filed Date: 8/2/13.

Accession Number: 20130802-5295.

Comments Due: 5 p.m. ET 8/23/13.

Docket Numbers: ER13-2107-000.

Applicants: Solar Partners I, LLC.

Description: Application for Market-Based Rate Authority to be effective 10/1/2013.

Filed Date: 8/2/13.

Accession Number: 20130802-5296.

Comments Due: 5 p.m. ET 8/23/13.

Docket Numbers: ER13-2108-000.

Applicants: PJM Interconnection, L.L.C.

Description: Revisions to the PJM OATT & RAA re demand resource sell offer plans to be effective 10/2/2013.

Filed Date: 8/2/13.

Accession Number: 20130802-5303.

Comments Due: 5 p.m. ET 8/23/13.

Docket Numbers: ER13-2109-000.

Applicants: Fowler Ridge Wind Farm LLC.

Description: New Baseline—FRWF MBR Wholesale Power Sale Tariff to be effective 8/5/2013.

Filed Date: 8/2/13.

Accession Number: 20130802-5306.

Comments Due: 5 p.m. ET 8/23/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2013.
Nathaniel J. Davis, Sr.,
Deputy Secretary.

[FR Doc. 2013-19577 Filed 8-13-13; 8:45 am]

BILLING CODE 6717-01-P